DEPARTMENT OF HEALTH AND HUMAN SERVICES

National Institutes of Health

Center for Scientific Review; Amended Notice of Meeting

Notice is hereby given of a change in the meeting of the Tumor Cell Biology Study Section, October 16, 2013, 08:00 a.m. to October 17, 2013, 05:00 p.m., Hotel Kabuki, 1625 Post Street, San Francisco, CA 94115 which was published in the Federal Register on September 17, 2013, 78 FR 57169.

The meeting will be held at the National Institutes of Health, 6701 Rockledge Drive, Bethesda, MD 20892. The meeting will start on November 16, 2013 at 8:00 a.m. and end on November 17, 2013 at 7:00 p.m. The meeting is closed to the public.

Dated: October 23, 2013.
David Clary,
Program Analyst, Office of Federal Advisory Committee Policy.

[FR Doc. 2013-25494 Filed 10-28-13; 8:45 am]

BILLING CODE 4140-01-P